DEPARTMENT OF COMMERCE

National Oceanic and Atmospheric Administration

Agency Information Collection Activities; Submission to the Office of Management and Budget (OMB) for Review and Approval; Comment Request; Surfclam/Ocean Quahog Individual Transferable Quota (ITQ) Administration

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 21, 2022.

ADDRESSES: Interested persons are invited to submit written comments to Adrienne Thomas, NOAA PRA Officer, at NOAA.PRA@noaa.gov. Please reference OMB Control Number 0648-0240 in the subject line of your comments. Do not submit Confidential Business Information or otherwise sensitive or protected information.

FOR FURTHER INFORMATION CONTACT: Requests for additional information or specific questions related to collection activities should be directed to Douglas Potts, Fishery Policy Analyst, 978-281-9341 or Douglas.Potts@noaa.gov.

SUPPLEMENTARY INFORMATION:

I. Abstract

This request is for an extension of a currently approved collection associated with the Atlantic surfclam and ocean quahog fisheries. National Marine Fisheries Service (NMFS) Greater Atlantic Region manages these fisheries in the Exclusive Economic Zone (EEZ) of the Northeastern United States through the Atlantic Surfclam and Ocean Quahog Fishery Management Plan (FMP). The Mid-Atlantic Fishery Management Council prepared the FMP pursuant to the Magnuson-Stevens Fishery Conservation and Management Act (Magnuson-Stevens Act). The regulations implementing the FMP are specified at 50 CFR part 648.

The recordkeeping and reporting requirements at §§ 648.74, 648.75, and 648.76 form the basis for this collection of information. We request information from surfclam and ocean quahog individual transferable quota (ITQ) permit holders to issue ITQ permits and to process and track requests from permit holders to transfer quota share or cage tags. We also request information from surfclam and ocean quahog ITQ permit holders to track and properly account for surfclam and ocean quahog harvest shucked at sea. Because there is not a standard conversion factor for estimating unshucked product from shucked product, NMFS requires vessels that shuck product at sea to carry on board the vessel a NMFS-approved observer to certify the amount of these clams harvested. This information, upon receipt, results in an efficient and accurate database for management and monitoring of fisheries of the Northeastern U.S. EEZ.

Georges Bank has been closed to the harvest of surfclams and ocean quahogs since 1990 due to red tide blooms that cause paralytic shellfish poisoning (PSP). We reopened a portion of the Georges Bank Closed Area starting in 2012 under certain conditions. We request information from surfclam and ocean quahog ITQ permit holders who fish in the reopened area to ensure compliance with the Protocol for Onboard Screening and Dockside Testing in Molluscan Shellfish. The U.S. Food and Drug Administration, the commercial fishing industry, and NMFS developed the PSP protocol to test and verify that clams harvested from Georges Bank continue to be safe for human consumption. The National Shellfish Sanitation Program adopted the PSP protocol at the October 2011 Interstate Shellfish Sanitation Conference.

The Council has approved Amendment 20 to the Surfclam and Ocean Quahog FMP, which would implement an excessive shares cap in this fishery. If that action is approved and implemented, some of the fields in the ITQ ownership form and the ITQ transfer form may change as a result. Any revisions to this collection will be specified in the upcoming proposed rule for the amendment.

II. Method of Collection

Forms are online at https://www.fisheries.noaa.gov/new-england-mid-atlantic/resources-fishing/greater-atlantic-region-forms-and-applications-summary as “fillable” pdf documents, which can then be downloaded, printed, and faxed, mailed, or emailed to NMFS. ITQ transfer forms may also be submitted electronically. Information for the PSP protocol is submitted through paper forms, as well as through electronic methods, including email, telephone, and shipboard electronic equipment such as VHF radio, email, or a vessel monitoring system.

III. Data

OMB Control Number: 0648-0240.

Form Number(s): None.

Type of Review: Regular submission (extension of a current information collection).

Affected Public: Individuals and Business or other for-profit organizations.

Estimated Number of Respondents: 177.

Estimated Time per Response: ITQ permit application form, review of a pre-filled form for renewing entities, ITQ transfer form, 5 minutes each; 1 hour to complete the ITQ ownership form for new applicants and 30 minutes for the application to shuck surfclams and ocean quahogs at sea. The requirements under the PSP protocol are based on the number of vessels that land surfclams or ocean quahogs and the number of trips taken into the area, with a total estimated annual burden of 2,400 hours.

Estimated Total Annual Burden Hours: 2,473.

Estimated Total Annual Cost to Public: $111,757.

Respondent's Obligation: Mandatory.

Legal Authority: Magnuson-Stevens Fishery Conservation and Management Act (16 U.S.C. 1801 et seq, Section 303).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-01007 Filed 1-19-22; 8:45 am]

BILLING CODE 3510-22-P